ENVIRONMENTAL PROTECTION AGENCY

[ER-FRL-8991-1]

Environmental Impacts Statements; Notice of Availability

Responsible Agency: Office of Federal Activities, General Information (202) 564-1399 or http://www.epa.gov/compliance/nepa/.

Weekly receipt of Environmental Impact Statements filed 06/14/2010 through 06/18/2010 pursuant to 40 CFR 1506.9.

Notice: In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20100225, Draft EIS, BLM, NV, Winnemucca District Office Resource Management Plan, Implementation, Black Rock Desert-High Rock Canyon Emigrant Trails National Conservation Area, Humboldt, Pershing, Washoe, Lyon and Churchill Counties, NV, Comment Period Ends: 09/22/2010, Contact: Robert Edward, 775-623-1597.

EIS No. 20100226, Final EIS, USFS, CA, Big Grizzly Fuels Reduction and Forest Health Project, Proposes Vegetation Treatments, Eldorado National Forest, Georgetown Ranger District, Georgetown, CA, Wait Period Ends: 07/26/2010, Contact: Dana Walsh, 530-333-5558.

EIS No. 20100227, Final EIS, NOAA, 00, Rationalization of the Pacific Coast Groundfish Limited Entry Trawl Fishery, Amendment 20, Implementation, WA, OR and CA, Wait Period Ends: 07/26/2010, Contact: Barry A. Thom, 206-526-6150.

EIS No. 20100228, Final EIS, FHWA, WI, WI-23 Highway Project, Transportation Improve between Fond du Lac and Plymouth, Fond du Lac and Sheboygan Counties, WI, Wait Period Ends: 07/26/2010, Contact: George Poirier, 608-829-7500.

EIS No. 20100229, Draft EIS, NRC, NC, GE-Hitachi Global Laser Enrichment LLC Facility, Construct, Operate, and Decommission a Laser-Based Uranium Enrichment Facility, Wilmington, NC, Comment Period Ends: 08/09/2010, Contact: Jennifer Davis, 301-415-3835.

EIS No. 20100230, Final EIS, FTA, HI, Honolulu High-Capacity Transit Corridor Project, Provide High-Capacity Transit Service on O'ahu from Kapolei to the University of Hawaii at Manoa and Waikiki, City and County of Honolulu, O'ahu, Hawaii, Wait Period Ends: 07/26/2010, Contact: Ted Matley, 415-744-3133.

EIS No. 20100231, Third Draft Supplement, USACE, FL, Herbert Hoover Dike Major Rehabilitation Evaluation Study, Proposed to Reconstruct and Rehabilitate Reach 1A Landside Rehabilitation, Lake Okeechobee, Martin and Palm Beach Counties, FL, Comment Period Ends: 08/09/2010, Contact: Angela Dunn, 904-232-2108.

EIS No. 20100232, Final EIS, NOAA, 00, Amendment 21 to the Pacific Coast Groundfish Fishery Management Plan, (FMP), Allocation of Harvest Opportunity between Sectors, Implementation, WA, OR and CA, Wait Period Ends: 07/26/2010, Contact: Barry A. Thom, 206-526-6150.

EIS No. 20100233, Revised Draft EIS, USFS, 00, Uinta National Forest Oil and Gas Leasing, Implementation, Identify National Forest Systems Lands with Federal Mineral Rights, Wasatch, Utah, Juab, Tooele, and Sanpete Counties, UT, Comment Period Ends: 08/09/2010, Contact: Kim Martin, 801-342-5100.

EIS No. 20100234, Final EIS, USAF, 00, Shaw Air Base Airspace Training Initiative (ATI), 20th Fighter Wing Proposal to Modify the Training Airspace Overlying Parts, South Carolina and Georgia, Wait Period Ends: 07/26/2010, Contact: Linda Devine, 757-964-9434.

EIS No. 20100235, Final EIS, FSA, 00, PROGRAMMATIC—Biomass Crop Assistance Program (BCAP), To Establish and Administer the Program Areas Program Component of BCAP as mandated in Title IX of the 2008 Farm Bill in the United States, Wait Period Ends: 07/26/2010, Contact: Matthew T. Ponish, 202-720-6853.

Amended Notices

EIS No. 20040214, Draft EIS, FHWA, CA, WITHDRAWN—Gold Line Phase II—Pasadena to Montclair—Foothill Extension, Address Transportation Problems and Deficiencies, Cities of Pasadena, Arcadia, Monrovia, Durate, Irwindale, Azusa, Glendora, San Dimas, La Verne, Pomona and Claremont in Los Angeles County, and Cities of Montclair and Upland in San Bernardino County, CA, Comment Period Ends: 06/21/2004, Contact: Erv Poka, 213-202-3950. Revision to FR Notice Published 05/07/2004: The EIS was Officially Withdraw by filing Agency in Letter Dated 06/17/2010.

Dated: June 22, 2010.
Robert W. Hargrove,
Director, NEPA Compliance Division, Office of Federal Activities.

[FR Doc. 2010-15502 Filed 6-24-10; 8:45 am]

BILLING CODE 6560-50-P